DEPARTMENT OF LABOR

Employment and Training Administration

[TA-W-72,175]

Gerdau Ameristeel, Sand Springs, OK; Notice of Termination of Investigation

Pursuant to Section 223 of the Trade Act of 1974, as amended, an investigation was initiated in response to a petition filed on August 31, 2009 by a company official on behalf of workers of Gerdau Ameristeel, Sand Springs, Oklahoma.

The petitioner has requested that the petition be withdrawn. Consequently, the investigation has been terminated.

Signed at Washington, DC, this 28th day of January 2010.
Elliott S. Kushner,
Certifying Officer, Division of Trade Adjustment Assistance.

[FR Doc. 2010-5353 Filed 3-11-10; 8:45 am]

BILLING CODE 4510-FN-P